SURFACE TRANSPORTATION BOARD

[Docket No. FD 36787]

Alameda Belt Line—Operation Exemption—Board of Harbor Commissioners of the Port of Los Angeles, Board of Harbor Commissioners (Long Beach), and Alameda Corridor Transportation Authority

Under 49 CFR 1011.7(a)(2)(x)(A), the Director of the Office of Proceedings (Director) is delegated the authority to determine whether to issue notices of exemption under 49 U.S.C. 10502 for operation transactions under 49 U.S.C. 10901. However, the Board reserves to itself the consideration and disposition of all matters involving issues of general transportation importance. 49 CFR 1011.2(a)(6). Accordingly, the Board will revoke the delegation to the Director with respect to issuance of the notice of exemption for dispatching operations of the rail line at issue in this case. The Board determines that this notice of exemption should be issued, and does so here.¹

¹ Should it choose to do so, the Board retains the ability to revisit its precedent in Rail-Term Corp.—Petition for Declaratory Order, FD 35582 (STB served Nov. 19, 2013), in an appropriate proceeding. It chooses not to do so here because of the facts and circumstances—in particular, timing needs—presented by ABL.

Notice

Alameda Belt Line (ABL), a noncarrier, has filed a verified notice of exemption pursuant to 49 CFR 1150.31 “to assume by subcontract the dispatching operations” over the Alameda Corridor, an approximately 16.1-mile railroad corridor between milepost 0.0 at CP East Redondo in Los Angeles, Cal., and milepost 16.1 at CP West Thenard in Los Angeles (the Line). According to the verified notice, BNSF Railway Company (BNSF) and Union Pacific Railroad Company (UP) have operating rights over the Line. The verified notice states that UP currently handles Line dispatching with BNSF oversight pursuant to an agreement among BNSF, UP, and the Alameda Corridor Transportation Authority, the Line's administrator. ABL is a private entity owned in equal parts by BNSF and UP.

ABL certifies that its annual projected revenues as a result of the transaction will not exceed those that would qualify it as a Class III carrier and will not exceed $5 million. ABL also states that the transaction does not involve any interchange commitments.

By decision served on July 11, 2024, the effective date of the exemption was postponed until further order of the Board, to provide sufficient time for evaluation of the matters raised by the verified notice.

On July 19, 2024, ABL filed a letter (Letter) requesting that the Board take immediate action on the verified notice. ABL states that the Federal Railroad Administration's (FRA) issuance of 49 CFR part 245—Certification of Dispatchers, effective July 22, 2024, imposes a 120-day approval process for a new railroad's dispatching training program. (Letter 2.) ABL states that it must begin dispatching operations by July 22, 2024, to avoid substantial delays resulting from the FRA's approval process under the new regulation. (See id.)

The Board determines that the notice of exemption should be published. In light of the need for expedited effectiveness as described in the Letter, the Board finds good cause to permit the exemption to become effective on the date of service of this decision.²

² For the same reasons, the Board will waive the provision at 49 CFR 1150.32(c) regarding the filing of stay petitions prior to effectiveness.

If the verified notice contains false or misleading information, the exemption is void ab initio. Petitions to revoke the exemption under 49 U.S.C. 10502(d) may be filed at any time. The filing of a petition to revoke will not automatically stay the effectiveness of the exemption.

All pleadings, referring to Docket No. FD 36787, must be filed with the Surface Transportation Board either via e-filing on the Board's website or in writing addressed to 395 E Street SW, Washington, DC 20423-0001. In addition, a copy of each pleading must be served on ABL's representative, Robert A. Wimbish, Fletcher & Sippel LLC, 29 North Wacker Drive, Suite 800, Chicago, IL 60606-3208.

According to ABL, this action is categorically excluded from environmental review under 49 CFR 1105.6(c) and from historic preservation reporting requirements under 49 CFR 1105.8(b).

Decisions of the Board are available at www.stb.gov.

It is ordered:

1. The delegation of authority to the Director of the Office of Proceedings under 49 CFR 1011.7(a)(2)(x)(A) to determine whether to issue a notice of exemption in this proceeding is revoked.

2. ABL's notice of exemption is issued and is effective on the service date of this decision.

3. The provision at 49 CFR 1150.32(c) regarding the filing of stay petitions prior to effectiveness is waived for purposes of this decision.

4. This decision will be published in the Federal Register.

5. This decision is effective on its service date.

Decided: July 22, 2024.
By the Board, Board Members Fuchs, Hedlund, Primus, and Schultz.
Kenyatta Clay,
Clearance Clerk.

[FR Doc. 2024-16430 Filed 7-25-24; 8:45 am]

BILLING CODE 4915-01-P